DEPARTMENT OF COMMERCE

Census Bureau

Agency Information Collection Activities; Submission to the Office of Management and Budget (OMB) for Review and Approval; Comment Request; Annual Integrated Economic Survey

AGENCY: Census Bureau, Department of Commerce.

ACTION: Notice of information collection, request for comment.

SUMMARY: The Department of Commerce, in accordance with the Paperwork Reduction Act (PRA) of 1995, invites the general public and other Federal agencies to comment on proposed, and continuing information collections, which helps us assess the impact of our information collection requirements and minimize the public's reporting burden. The purpose of this notice is to allow for 60 days of public comment on a proposed revision to the Annual Integrated Economic Survey (AIES), prior to the submission of the information collection request (ICR) to OMB for approval.

DATES: To ensure consideration, comments regarding this proposed information collection must be received on or before October 25, 2024.

ADDRESSES: Interested persons are invited to submit written comments by email to Thomas.J.Smith@census.gov. Please reference Annual Integrated Economic Survey (AIES) in the subject line of your comments. You may also submit comments, identified by Docket Number USBC-2024-0021, to the Federal e-Rulemaking Portal: http://www.regulations.gov. All comments received are part of the public record. No comments will be posted to http://www.regulations.gov for public viewing until after the comment period has closed. Comments will generally be posted without change. All Personally Identifiable Information (for example, name and address) voluntarily submitted by the commenter may be publicly accessible. Do not submit Confidential Business Information or otherwise sensitive or protected information. You may submit attachments to electronic comments in Microsoft Word, Excel, or Adobe PDF file formats.

FOR FURTHER INFORMATION CONTACT: Requests for additional information or specific questions related to collection activities should be directed to Edward Watkins, U.S. Census Bureau, Economy-wide Statistics Division (EWD) by phone (301) 763-4750, or by email at Edward.E.Watkins.III@census.gov.

SUPPLEMENTARY INFORMATION:

I. Abstract

The Annual Integrated Economic Survey (AIES) is designed to integrate and replace seven existing annual business surveys into one survey. The AIES provides the only comprehensive national and subnational data on business revenues, expenses, and assets on an annual basis. The AIES is designed to combine Census Bureau collections to reduce respondent burden, increase data quality, and allow the Census Bureau to operate more efficiently to reduce long term costs. The existing collections integrated into the AIES are the Annual Retail Trade Survey (ARTS), Annual Wholesale Trade Survey (AWTS), Service Annual Survey (SAS), Annual Survey of Manufactures (ASM), Annual Capital Expenditures Survey (ACES), Manufacturers' Unfilled Orders Survey (M3UFO), and the Report of Organization.

The AIES collects the following information from employer businesses in sample:

• Business characteristics, including employment, operating status, organizational change, ownership information, and co-op status.

• Business classification, including business activity, type of operation, and tax status.

• Revenue, including sales, shipments, and receipts, taxes, contributions, gifts, and grants, products, e-commerce activity, and other sources of revenue.

• Operating expenses, including purchased services, payroll, benefits, and other detailed operating expenses.

• Capital expenditures and inventories.

• Robotic equipment expenditures and usage.

In preparation for the 2024 AIES, we are looking ahead and evaluating options to reduce respondent burden. The Census Bureau is considering a reduction in the content that we collect from respondents. We have identified areas where we can reduce the content collected from respondents without significantly impacting data users. We are considering the consolidation of select items that pertain to Revenues, Operating Expenses, Inventories, and Capital Expenditures. We have identified the content we would like to reduce/consolidate and are currently working with key stakeholders to incorporate feedback. Our intention is that the reduction in content would have a positive impact on respondents and would be of minimal or no impact to both internal and external stakeholders, and the public.

All reduced/streamlined or combined content will be based on research, debriefing interviews, and feedback received from survey respondents during the 2023 collection period and any resulting reduction in respondent burden will be included in the revision request submitted to OMB after the conclusion of this 60-day comment period.

One of the key features of the AIES is the ability, with Office of Management and Budget (OMB) approval, to add and delete questions based on the importance of the economic situation at the time. The AIES may include new questions each year based on relevant business topics. Potential topics for such new questions could include technological advances including but not limed to artificial intelligence, machine learning, bioeconomy, financial technology robotics, exporting practices, energy, globalization, major event or catastrophe, and emerging societal trends. Any new questions or deletion of existing questions will be submitted to OMB for review as a revision with 30-day notice.

II. Method of Collection

Respondents are notified via email and/or letter about their requirement to respond and how to access the survey, with responses due within 30 days. Select businesses receive a reminder before the due date through email or letter. Nonrespondents are followed up with up to three email or mail reminders at one-month intervals.

III. Data

OMB Control Number: 0607-1024.

Type of Review: Regular submission, request for a revision of a currently approved collection.

Affected Public: Businesses, or other for profit or non-profit institutions or organizations.

Estimated Number of Respondents: 393,460 companies.

Estimated Time per Response: 3 hours and 23 minutes per company (this estimate will be re-evaluated based on results of testing reduced content).

Estimated Total Annual Burden Hours: 1,336,892.

Estimated Total Annual Cost to Public: $0. (This is not the cost of respondents' time, but the indirect costs respondents may incur for such things as purchases of specialized software or hardware needed to report, or expenditures for accounting or records maintenance services required specifically by the collection.)

Respondent's Obligation: Mandatory.

Legal Authority: Title 13 U.S.C. 131, 182, and 193.

IV. Request for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include, or summarize, each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Sheleen Dumas,
Department PRA Clearance Officer, Office of the Under Secretary for Economic Affairs, Commerce Department.

[FR Doc. 2024-19090 Filed 8-23-24; 8:45 am]

BILLING CODE 3510-07-P